DEPARTMENT OF THE TREASURY

Alcohol and Tobacco Tax and Trade Bureau

27 CFR Part 4

[Docket No. TTB-2010-0006; Notice No. 113; Re: Notice No.109]

RIN 1513-AB24

Use of Various Winemaking Terms on Wine Labels and in Advertisements; Comment Period Extension

AGENCY: Alcohol and Tobacco Tax and Trade Bureau, Treasury.

ACTION: Advance notice of proposed rulemaking; extension of comment period.

SUMMARY: In response to a request made on behalf of a wine industry association, TTB is extending for an additional 60 days the comment period prescribed in Notice No. 109, Use of Various Winemaking Terms on Wine Labels and in Advertisements; Request for Public Comment, an advance notice of proposed rulemaking published in the Federal Register on November 3, 2010.

DATES: Written comments on Notice No. 109 are now due on or before March 4, 2011.

ADDRESSES: You may send comments on Notice No. 109 to one of the following addresses:

• http://www.regulations.gov: Use the comment form for Notice No. 109 as posted within Docket No. TTB-2010-0006 on “Regulations.gov,” the Federal e-rulemaking portal, to submit comments via the Internet;

• Mail: Director, Regulations and Rulings Division, Alcohol and Tobacco Tax and Trade Bureau, P.O. Box 14412, Washington, DC 20044-4412.

• Hand Delivery/Courier in Lieu of Mail: Alcohol and Tobacco Tax and Trade Bureau, 1310 G Street, NW., Suite 200-E, Washington, DC 20005.

See the Public Participation section of Notice No. 109 for specific instructions and requirements for submitting comments, and for information on how to request a public hearing.

You may view copies of this notice, Notice No. 109, and any comments TTB receives regarding Notice No. 109 within Docket No. TTB-2010-0006 at http://www.regulations.gov. A direct link to this docket is posted on the TTB Web site at http://www.ttb.gov/wine/wine-rulemaking.shtml under Notice No. 109. You also may view copies of all notices and comments associated with Notice No. 109 by appointment at the TTB Information Resource Center, 1310 G Street, NW., Washington, DC 20220. Please call 202-453-2270 to make an appointment.

FOR FURTHER INFORMATION CONTACT: Lisa M. Gesser, Regulations and Rulings Division, Alcohol and Tobacco Tax and Trade Bureau, P.O. Box 128, Morganza, MD 20660; telephone (301) 290-1460; or Joanne C. Brady, Regulations and Rulings Division, Alcohol and Tobacco Tax and Trade Bureau, P.O. Box 45797, Philadelphia, PA 19149; telephone (215) 333-7050.

SUPPLEMENTARY INFORMATION: In Notice No. 109 published in the Federal Register (75 FR 67669) on Wednesday, November 3, 2010, the Alcohol and Tobacco Tax and Trade Bureau announced that it is considering amending the regulations concerning various winemaking terms commonly used on labels and in advertisements to provide consumers with information about the growing or bottling conditions of wine. In that notice, TTB invited comments from industry members, consumers, and other interested parties as to whether and to what extent it should propose specific regulatory amendments for further public comment. TTB requested such comments on or before January 3, 2011.

TTB received a letter dated December 14, 2010, from attorney Richard Mendelson on behalf of the Napa Valley Vintners (NVV), a trade association representing nearly 400 wineries Napa Valley, California. The letter noted that NVV has formed a sub-committee to research and poll the NVV's members regarding the issues raised in Notice No. 109. The letter stated that the sub-committee's work would ultimately be reviewed by the NVV's Board of Directors, which only meets once a month. The letter therefore requested a 90-day extension of the comment period for Notice No. 109 in order to allow time for NVV to fully consider its response to the notice.

In response to this request, TTB extends the comment period for Notice No. 109 an additional 60 days, which TTB believes provides adequate time to comment on the issues raised in Notice No. 109. Therefore, comments on Notice No. 109 are now due on or before March 4, 2011.

Drafting Information

Michael D. Hoover of the Regulations and Rulings Division drafted this notice.

Signed: December 22, 2010.
Cheri D. Mitchell,
Acting Administrator.

[FR Doc. 2010-32874 Filed 12-28-10; 8:45 am]

BILLING CODE 4810-31-P